ENVIRONMENTAL PROTECTION AGENCY

[FRL-7549-9]

Clean Water Act section 303(d): Notice of Availability of 4 Total Maximum Daily Loads (TMDLs), Informational Meetings and Public Hearing

AGENCY: Environmental Protection Agency (EPA).

ACTION: Notice of availability, request for comment, informational meetings and public hearing.

SUMMARY: This notice announces the date of availability for comment of four draft total maximum daily loads (TMDLs) being established under section 303(d) of the Clean Water Act for polychlorinated biphenyls (PCBs) in Delaware River Zones 2 through 5 (from Trenton, New Jersey to the head of Delaware Bay). The U.S. Environmental Protection Agency (EPA), jointly with the Delaware Department of Natural Resources and Environmental Control (DNREC), the New Jersey Department of Environmental Protection (NJDEP), the Pennsylvania Department of Environmental Protection (PADEP), and the Delaware River Basin Commission (DRBC), will hold three informational meetings and a single public hearing on the proposed TMDLs, which will be established in final form by December 15, 2003.

DATES: Electronic and faxed comments must be received by, and mailed comments must be postmarked no later than, October 21, 2003. Electronic submission of comments is encouraged. The dates of the three informational meetings are as follows: September 22, 24 and 25, 2003, from 7 to 9 p.m. The public hearing on the TMDLs will be held on October 16, 2003, from 7 to 9 p.m and may be extended, if necessary. The draft TMDLs, along with background information, will be published electronically on or before September 15, 2003.

ADDRESSES: By the deadlines set out above, written comments on the draft TMDLs should be sent electronically to berlin.lenka@epamail.epa.gov or in hard copy to: Lenka Berlin, Office of Watersheds (3WP10), USEPA, 1650 Arch Street, Philadelphia, Pennsylvania 19103-2029, or faxed to Lenka Berlin at 215-814-2301. The draft TMDLs, along with background information, will be published on the DRBC Web site, http://www.drbc.net. The September 22 informational meeting will be held at the Carvel State Office Building, 820 North French Street, 2nd Floor, Wilmington, Delaware. The September 24 informational meeting will be held at the NJDEP Office, Public Hearing Room, 401 East State Street, Trenton, New Jersey.

The September 25 informational meeting will be held at the PADEP Southeast Regional Office, Lee Park, Hearing Room, 555 North Lane, Conshohocken, Pennsylvania. The October 16 public hearing will be held at the Independence Visitor Center, Independence Ballroom, 2nd Floor, One North Independence Mall West (6th & Market), Philadelphia, Pennsylvania.

FOR FURTHER INFORMATION CONTACT: Susan Schulz, EPA Region 2, at 212-637-3829; Mary Kuo, EPA Region 3, at 215-814-5721; Pamela Bush, DRBC, at 609-883-9500 x203.

SUPPLEMENTARY INFORMATION: The USEPA proposes to establish TMDLs for PCBs in the Delaware River. Technical development and interstate coordination necessary to support the TMDLs has been provided by DRBC. Issuance of the TMDLs is required by December 15, 2003, pursuant to a May 1997 Consent Decree and Settlement Agreement in an action entitled American Littoral Society and Sierra Club v. the United States Environmental Protection Agency et al., which decree establishes dates for the adoption of TMDLs in the State of Delaware. The December 15, 2003 deadline will satisfy a revised Memorandum of Agreement between EPA and NJDEP, dated September 16, 2002, which provides for completion of the TMDLs in New Jersey by December 31, 2003. A Memorandum of Understanding between EPA and PADEP, dated April 7, 1997, provides for the adoption of certain TMDLs in Pennsylvania, including the TMDLs for PCBs in the Delaware River, within ten years. No deadline was set for completion of the Pennsylvania TMDLs. Following review and appropriate consideration of public comments, EPA will establish in final form TMDLs for PCBs in the Delaware River. EPA then will forward the TMDLs to DNREC, NJDEP and PADEP, respectively. These agencies will incorporate the TMDLs into their current water quality management plans.

The informational meetings on September 22, 24 and 25 will begin with a presentation by representatives of EPA, the state environmental agency (DNREC, PADEP or NJDEP) and DRBC and followed by an informal question and answer session. The informational meetings will not be conducted as part of the record. Comments for the record will be accepted at the public hearing on October 16 and in writing as described above during the comment period. No agency responses will be offered at the hearing. However, EPA will review all data and information submitted during the comment period and will revise the TMDLs as appropriate. A written response document will be prepared prior to final EPA action.

Walter E. Mugdan,
Director, Division of Environmental Planning and Protection, Region 2.
John A. Armstead,
Acting Director, Water Protection Division, Region 3.

[FR Doc. 03-22162 Filed 8-29-03; 8:45 am]

BILLING CODE 6560-50-P